DEPARTMENT OF TRANSPORTATION

Federal Aviation Administration

14 CFR Part 39

[Docket No. FAA-2005-21611; Directorate Identifier 2004-NM-234-AD; Amendment 39-14438; AD 2005-26-17]

RIN 2120-AA64

Airworthiness Directives; Airbus Model A300 B4-600, B4-600R, and F4-600R Series Airplanes, and Model A300 C4-605R Variant F Airplanes (Collectively Called A300-600 Series Airplanes); and Model A310-200 and -300 Series Airplanes

AGENCY: Federal Aviation Administration (FAA), Department of Transportation (DOT).

ACTION: Final rule.

SUMMARY: The FAA is adopting a new airworthiness directive (AD) for certain Airbus Model A300-600, A310-200, and A310-300 series airplanes. This AD requires inspecting for certain serial numbers on elevators, and doing a detailed inspection, visual inspection with a low-angle light, and tap-test inspection of the upper and lower surfaces of the external skins on certain identified elevators for any damage (i.e., debonding of the graphite fiber reinforced plastic/Tedlar film protection, bulges, debonding of the honeycomb core to the carbon fiber reinforced plastic, abnormal surface reflections, and torn-out plies), and doing corrective actions if necessary. This AD results from reports of debonded skins on the elevators. We are issuing this AD to detect and correct debonding of the skins on the elevators, which could cause reduced structural integrity of an elevator and reduced controllability of the airplane.

DATES: This AD becomes effective February 3, 2006.

The Director of the Federal Register approved the incorporation by reference of certain publications listed in the AD as of February 3, 2006.

ADDRESSES: You may examine the AD docket on the Internet at http://dms.dot.gov or in person at the Docket Management Facility, U.S. Department of Transportation, 400 Seventh Street, SW., Nassif Building, room PL-401, Washington, DC.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 B4-600, B4-600R, and F4-600R series airplanes; Model A300 C4-605R Variant F airplanes (collectively called A300-600 series airplanes); and Model A310 series airplanes. That NPRM was published in the Federal Register on June 22, 2005 (70 FR 36073). That NPRM proposed to require inspecting for certain serial numbers on elevators, and doing a detailed inspection, visual inspection with a low-angle light, and tap-test inspection of the upper and lower surfaces of the external skins on certain identified elevators for any damage (i.e., debonding of the graphite fiber reinforced plastic/Tedlar film protection, bulges, debonding of the honeycomb core to the carbon fiber reinforced plastic, abnormal surface reflections, and torn-out plies), and corrective actions if necessary.

Comments

We provided the public the opportunity to participate in the development of this AD. We have considered the comment received.

Request To Clarify Applicability

The commenter, the airplane manufacturer, requests that we clarify the applicability statement of the proposed AD. The proposed AD states that the AD would apply to affected models “equipped with carbon fiber elevators having part number (P/N) A55276055000 (left-hand side) or P/N A55276056000 (right-hand side).” The commenter notes that the related French airworthiness directive states that it is effective for affected models “equipped with carbon fiber elevators P/N A55276055000 (left-hand side) and P/N A55276056000 (right-hand side), installed as per modification 4805, * * *.” The commenter asks that we revise the applicability statement of the proposed AD to indicate that an affected airplane would be equipped with both the left- and right-hand side P/Ns, and that the proposed AD only applies to airplanes with these P/Ns installed in accordance with (Airbus) Modification 4805.

We partially agree with the commenter's request.

After the comment period closed, we coordinated with the commenter to gain a better understanding of its comments. This coordination resulted in agreement between the FAA and the commenter that, because carbon fiber elevators are interchangeable among any airplanes with Airbus Modification 4805, it is more appropriate for this AD to apply to affected models “equipped with carbon fiber elevators P/N A55276055000 (left-hand side) or P/N A55276056000 (right-hand side),” as specified in the NPRM. (The commenter requests that we disregard its former objection concerning the use of “or” instead of “and.”) Thus, no change is needed in this regard.

Regarding the commenter's other request, we agree to revise the applicability statement to clarify that carbon fiber elevators with the affected P/Ns were installed under Airbus Modification 4805.

Explanation of Additional Change to Applicability

We have revised the applicability of this AD to identify model designations as published in the most recent type certificate data sheet for the affected models.

Clarification of Alternative Method of Compliance (AMOC) Paragraph

We have revised this action to clarify the appropriate procedure for notifying the principal inspector before using any approved AMOC on any airplane to which the AMOC applies.

Conclusion

We have carefully reviewed the available data, including the comment received, and determined that air safety and the public interest require adopting the AD with the changes described previously. We have determined that these changes will neither increase the economic burden on any operator nor increase the scope of the AD.

Interim Action

This is considered to be interim action. The manufacturer has advised that it currently is developing a modification that will address the unsafe condition addressed by this AD. Once this modification is developed, approved, and available, the FAA may consider additional rulemaking.

Costs of Compliance

This AD will affect about 172 airplanes of U.S. registry.

The inspection for the serial number will take about 1 work hour per airplane, at an average labor rate of $65 per work hour. Based on these figures, the estimated cost of this action for U.S. operators is $11,180, or $65 per airplane.

The detailed inspection, visual inspection with a low-angle light, and tap-test inspection of the elevator will take about 3 work hours per elevator (two elevators per airplane), at an average labor rate of $65 per work hour. Based on these figures, the estimated cost of this action for U.S. operators is $67,080, or $390 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-26-17 Airbus: Amendment 39-14438. Docket No. FAA-2005-21611; Directorate Identifier 2004-NM-234-AD.

Effective Date

(a) This AD becomes effective February 3, 2006.

Affected ADs

(b) None.

Applicability

(c) This AD applies to Airbus Model A300 B4-601, B4-603, B4-620, B4-622, B4-605R, B4-622R, C4-605R Variant F, F4-605R, and F4-622R airplanes; and Model A310-203, -204, -221, -222, -304, -322, -324, and -325 airplanes; certificated in any category; equipped with carbon fiber elevators having part number (P/N) A55276055000 (left-hand side) or P/N A55276056000 (right-hand side), installed under Airbus Modification 04805.

Unsafe Condition

(d) This AD results from reports of debonded skins on the elevators. The FAA is issuing this AD to detect and correct debonding of the skins on the elevators, which could cause reduced structural integrity of an elevator and reduced controllability of the airplane.

Compliance

(e) You are responsible for having the actions required by this AD performed within the compliance times specified, unless the actions have already been done.

Inspection for Serial Number, Repetitive Inspections, and Corrective Actions

(f) Within 600 flight hours after the effective date of this AD, inspect to determine if the serial number (S/N) of the elevator is listed in Airbus All Operators Telex (AOT) A300-600-55A6032, dated June 23, 2004 (for Model A300 B4-601, B4-603, B4-620, B4-622, B4-605R, B4-622R, C4-605R Variant F, F4-605R, and F4-622R airplanes); or in Airbus AOT A310-55A2033, dated June 23, 2004 (for Model A310-203, -204, -221, -222, -304, -322, -324, and -325 airplanes).

(1) If the S/N does not match any S/N on either AOT S/N list, no further action is required by this paragraph.

(2) If the S/N matches a S/N listed in an AOT, before further flight, do the actions listed in Table 1 of this AD, and any corrective action as applicable, in accordance with Airbus AOT A300-600-55A6032, dated June 23, 2004; or Airbus AOT A310-55A2033, dated June 23, 2004; as applicable. Repeat the inspections at intervals not to exceed 600 flight hours. Do applicable corrective actions before further flight.

Table 1.—Repetitive Inspections
Do a— | Of the— | For any—
Detailed inspection | Elevator upper and lower external skin surfaces | Damage (i.e., breaks in the graphite fiber reinforced plastic (GFRP)/Tedlar film protection, debonded GFRP/Tedlar film protection, bulges, torn-out plies).
Visual inspection with a low-angle light | Elevator upper and lower external skin surfaces | Differences in the surface reflection.
Tap-test inspection | Upper and lower external skin surfaces of the honeycomb core panels in the elevator | Honeycomb core that has debonded from the carbon fiber reinforced plastic (CFRP).

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

Repair Approval

(g) Where the AOT says to contact the manufacturer for repair instructions, or an alternative inspection method: Before further flight, repair or do the alternative inspection method according to a method approved by either the Manager, International Branch, ANM-116, FAA, Transport Airplane Directorate; or the Direction Générale de l'Aviation Civile (DGAC) (or its delegated agent).

Parts Installation

(h) As of the effective date of this AD, no carbon fiber elevator having part number (P/N) A55276055000 (left-hand side) or P/N A55276056000 (right-hand side) may be installed on any airplane unless it is inspected according to paragraph (f) of this AD.

No Reporting Required

(i) Although the AOTs referenced in this AD specify to submit inspection reports to the manufacturer, this AD does not include that requirement.

Alternative Methods of Compliance (AMOCs)

(j)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) French airworthiness directive F-2004-131, dated August 4, 2004, also addresses the subject of this AD.

Material Incorporated by Reference

(l) You must use Airbus All Operators Telex A300-600-55A6032, dated June 23, 2004; or Airbus All Operators Telex A310-55A2033, dated June 23, 2004; as applicable; to perform the actions that are required by this AD, unless the AD specifies otherwise. (The document number and date are only included on the first page of these documents.) The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 15, 2005.
Ali Bahrami,
Manager, Transport Airplane Directorate, Aircraft Certification Service.

[FR Doc. 05-24531 Filed 12-29-05; 8:45 am]

BILLING CODE 4910-13-U